DEPARTMENT OF DEFENSE

Department of the Army, Corps of Engineers

Proposed Changes in Levels of Service at Locks and Dams on the Ouachita and Black Rivers

AGENCY: U.S. Army Corps of Engineers, DoD.

ACTION: Notice.

SUMMARY: It is proposed that the hours of availability at Jonesville and Columbia Locks on the Ouachita and Black Rivers will be increased from the current schedule of 20 hours per day, separated into two 10 hour periods, 5:00 a.m. to 3:00 p.m. and 5:00 p.m. to 3:00 a.m., 7 days per week, 365 days per year to 24 hours per day, 7 days per week, 365 days per year. It is also proposed that the hours of availability at Felsenthal and H.K. Thatcher Locks on the Ouachita and Black Rivers will be reduced from the current schedule of 16 hours per day, separated into two 8 hour periods, 5:00 a.m. to 1:00 p.m. and 5:00 p.m. to 1:00 a.m., 7 days per week, 365 days per year to a 10 hour period, 5:00 a.m. to 3:00 p.m. Monday through Friday. The reduced levels of service are in response to the Inland Marine Transportation System Guidelines for Establishing and Implementing Levels of Operating Service which sets forth criteria for determining hours of availability, based on lock usage data. The intended effect is to provide lock availability that matches existing lock usage by commercial industry. The Vicksburg District will continue to work with industry to optimize the hours of availability and make adjustments as needed.

DATES: Proposed implementation date is November 15, 2015.

ADDRESSES: Submit written comments, in duplicate, to Mr. James V. Ross, Chief, Operations Division, Vicksburg District, US Army Corps of Engineers, 4155 Clay Street, Vicksburg, MS 39183, or deliver them to Mr Ross between the hours of 8:00 a.m. and 4:00 p.m., Monday through Friday at the address above. Comments received and other materials relevant to the proposed reduction in hours of lock availability can be inspected at Mr. Ross' office during the same hours. An appointment will be required for inspection, so please call ahead to make an appointment and to avoid conflicts with inspections by other interested parties. Phone: 601-631-5315

FOR FURTHER INFORMATION CONTACT: Mr. Thomas Hengst at the Corps of Engineers, Vicksburg District, River Operations Branch, by phone at 601-631-5600.

SUPPLEMENTARY INFORMATION: The legal authority for the regulation governing the use, administration, and navigation of the Ouachita and Black Rivers and Locks is Section 4 of the River and Harbor Act of August 18, 1894 (28 Stat. 362), as amended, which is codified at 33 U.S.C. Section 1. This statute requires the Secretary of the Army to “prescribe such regulations for the use, administration, and navigation of the navigable waters of the United States” as the Secretary determines may be required by public necessity. Reference 33 CFR part 207.249, Ouachita and Black Rivers, Ark. and La., Mile 0.0 to Mile 338.0 (Camden, Ark.) above the mouth of the Black River; the Red River, La., Mile 6.7 (Junction of Red, Atchafalaya and Old Rivers) to Mile 276.0 (Shreveport, La.); use, administration, and navigation.

John W. Cross,
Colonel, Corps of Engineers, Commanding.

[FR Doc. 2015-26888 Filed 10-21-15; 8:45 a.m.]

BILLING CODE 3720-58-P